DEPARTMENT OF THE INTERIOR

Fish and Wildlife Service

[FWS-R7-FHC-2010-N159; 71490-1351-0000-L5-FY10]

U.S.-Russia Polar Bear Commission Adopts an Annual Taking Limit for the Alaska-Chukotka Polar Bear Population

AGENCY: Fish and Wildlife Service, Interior.

ACTION: Notice.

SUMMARY: On June 9, 2010, by unanimous vote, the U.S.-Russia Polar Bear Commission established by the “Agreement Between the Government of the United States of America and the Government of the Russian Federation on the Conservation and Management of the Alaska-Chukotka Polar Bear Population,” signed at Washington, DC, on October 16, 2000, adopted a limit to the take of the Alaska-Chukotka polar bear population. The decision of the Commission is that the total take should be limited to 58 bears per year to be shared between the United States of America and the Russian Federation. Both the United States and the Russian Federation are proceeding to implement the decision of the Commission.

FOR FURTHER INFORMATION CONTACT: Terry D. DeBruyn, Polar Bear Project Leader, U.S. Fish and Wildlife Service, Marine Mammals Management Office, 1011 East Tudor Road, Anchorage, AK 99503; by telephone (907-786-3800); or by facsimile (907-786-3816). Persons who use a telecommunications device for the deaf (TDD) may call the Federal Information Relay Service (FIRS) at 800-877-8339.

SUPPLEMENTARY INFORMATION:

Background

The “Agreement Between the Government of the United States of America and the Government of the Russian Federation on the Conservation and Management of the Alaska-Chukotka Polar Bear Population,” signed at Washington, DC, on October 16, 2000 (the 2000 Agreement), provides legal protections for the population of polar bears found in the Chukchi-Northern Bering Sea. The 2000 Agreement is implemented in the United States through title V of the Marine Mammal Protection Act (MMPA) (16 U.S.C. 1361 et seq.) and builds upon those protections already provided to this population of polar bears through the “Agreement on the Conservation of Polar Bears,” done at Oslo, November 13, 1973 (the 1973 Agreement), which was a significant early step in the international conservation of polar bears.

The 1973 Agreement is a multilateral treaty to which the United States and Russia are parties with other polar bear range states: Norway, Canada, and Denmark. While the 1973 Agreement provides authority for the maintenance of a subsistence harvest of polar bears and provides for habitat conservation, the 2000 Agreement specifically establishes a common legal, scientific, and administrative framework for the conservation and management of the Alaska-Chukotka polar bear population between the United States and Russia.

Because of the shared interest in this population of polar bears, which readily moves between U.S. and Russian Federation jurisdictions, a cooperative management regime for the subsistence harvest of bears is key to both providing for the long-term viability of the population as well as addressing the social, cultural, and subsistence interests of Alaska Natives and the native people of Chukotka. The 2000 Agreement requires the United States and the Russian Federation to manage and conserve polar bears based on reliable science and to provide for subsistence harvest opportunity by native peoples. For example, the 2000 Agreement provides a definition of “sustainable harvest” [which] “means a harvest level which does not exceed net annual recruitment to the population and maintains the population at or near its current level, taking into account all forms of removal, and considers the status and trend of the population, based on reliable scientific information”.

In addition, the 2000 Agreement establishes the U.S.-Russia Polar Bear Commission (Commission), which functions as the bilateral managing authority to make scientific determinations, establish taking limits, and carry out other responsibilities important to the conservation and management of the polar bear. At its first meeting, held in Moscow, Russia, September 23-25, 2009, the Commission identified members of a Scientific Working Group (SWG) and tasked the SWG with reviewing the current level of subsistence take of polar bears. Recommendations from the SWG will help guide the research necessary to address present and future polar bear conservation issues in the shared Alaska-Chukotka polar bear population. The Commission also: (1) Identified habitat conservation as an important issue for the long-term conservation and management of the Alaska-Chukotka polar bear; (2) identified ways to ensure full participation of native peoples in the conservation of the shared polar bear population; and (3) adopted rules of procedure for the Commission.

The first meeting of the SWG was held March 1-5, 2010, in Anchorage, Alaska. The SWG, tasked by the Commission with identifying a sustainable level of human-caused removals for the Alaska-Chukotka polar bear population, recognized that reliable scientific information was critical to the identification and implementation of a sustainable level of removals. At the same time, the SWG acknowledged that the information necessary to derive accurate estimates of sustainable removals that meet subsistence interests in the two countries for the Alaska-Chukotka polar bear population is currently limited. However, the SWG recognized that the current unlimited subsistence harvest in the United States and illegal killing of polar bears in Russia represented an immediate threat to the Alaska-Chukotka polar bear population.

The SWG evaluated the plausible range of sustainable removals for subsistence purposes based on population models and assumed values of population size and growth rate. These parameters and resulting estimate of sustainable subsistence removals were based on expert opinion of the group. The SWG identified two management options for consideration by the Commission. Both management options are short term (1 to 3 years) and require reevaluation when new information becomes available. Management option 1 was a moratorium on the subsistence harvest of polar bears in the United States in conjunction with a continued moratorium on subsistence harvest in Russia. Such a regime would be contingent upon effective enforcement capabilities in both countries. Management option 2 was to establish a regulated subsistence harvest in both the United States and Russia. Such a regime would be contingent upon the enforcement of a regulated subsistence harvest and the implementation of community-level conservation programs in both the United States and Russia.

The second meeting of the Commission took place June 7-10, 2010, in Anchorage, Alaska. During this meeting, the Commission evaluated the options provided by the SWG and determined that establishing a limit to the subsistence harvest of polar bears from the Alaska-Chukotka polar bear population was needed. Based on the recommendation and risk assessment relative to hypothetical harvest levels and traditional knowledge of the native people, the Commission determined that no more than 58 polar bears per year may be taken, of which no more than 19 animals may be females from the Alaska-Chukotka polar bear population. The Commission determined that all human-caused mortality, i.e., subsistence harvest as well as any bears that could be taken in defense of human life, to the Alaska-Chukotka polar bear population will be counted toward this annual limit. Further, the Commission determined that the two countries will work together over the coming year to identify legal requirements and documents needed to implement the determined subsistence harvest limit and that further discussion would take place at the next Commission meeting in June 2011.

The adoption of an annual take limit by the Commission is a significant accomplishment in the conservation and management of the shared Alaska-Chukotka polar bear population. The additional data obtained through enhanced management, especially in Russia where only limited information has been available, as well as increased monitoring of the previously unknown take of bears, will provide vital information and greater understanding of the status and trends of the Alaska-Chukotka polar bear population. Resultant data will enable the countries to develop a more effective and robust strategy for the conservation and management of this shared population.

The regulated subsistence harvest will also provide for the cultural, spiritual, and nutritional needs of the native people of Chukotka. It is anticipated that the illegal hunting of polar bears in Russia will decrease dramatically with the involvement of native Chukotkans in the implementation of subsistence harvest monitoring and management and enhanced legal enforcement. The Commission tasked the SWG with conducting an annual review of the annual subsistence take and providing a recommendation to the Commission each year confirming continuation of the existing subsistence harvest limit or specifying a new harvest limit recommendation.

Determination of the Commission

Therefore, as discussed above, and as required by Section 507(b) of the MMPA, the Commission notified the Secretary of the Interior (by letter dated June 23, 2010, and received on July 1, 2010) of its determination to limit the annual take of polar bears from the Alaska-Chukotka population to no more than 58 animals, of which no more than 19 may be female, to be shared equally between the two jurisdictions. Each country is responsible for developing documents describing how the regulated harvest will be implemented to be reported at the next Commission meeting. The United States and Russian Federation will work together over the coming year to identify the legal requirements and documents needed to implement the identified harvest limit. This will be further discussed at the next Commission meeting in June 2011.

As required by Section 507(b) of the MMPA, notice of the Commission's determination of taking limits for the Alaska-Chukotka polar bear population is hereby published in the Federal Register.

Dated: October 12, 2010.
Daniel M. Ashe,
Acting Director, U.S. Fish and Wildlife Service.

[FR Doc. 2010-26864 Filed 10-22-10; 8:45 am]

BILLING CODE 4310-55-P